DEPARTMENT OF HEALTH AND HUMAN SERVICES

Administration for Community Living

Delegation of Authority

Effective immediately, I hereby delegate to the individual serving as the Administrator for the Administration for Community Living and the Assistant Secretary for Aging the authority to oversee and administer the operations of the Elder Justice Coordinating Council, as outlined in section 2021 of the Social Security Act, 42 U.S.C. 1397k. This authority may be redelegated.

This delegation excludes the authority to issue regulations and to appoint members of the coordinating council and shall be exercised in accordance with the Department's applicable policies, procedures, and guidance.

Dated: June 4, 2012.
Kathleen Sebelius,
Secretary.

[FR Doc. 2012-15090 Filed 6-20-12; 8:45 am]

BILLING CODE 4154-01-P